DEPARTMENT OF THE INTERIOR

Minerals Management Service

Notice of Availability of the Proposed Final 5-Year Outer Continental Shelf (OCS) Oil and Gas Leasing Program for 2002-2007

AGENCY: Minerals Management Service, Interior.

ACTION: Notice of availability of proposed program.

SUMMARY: The MMS has issued a proposed final program for 2002-2007. This is the third and final proposal for a new OCS oil and gas leasing program, following the July 2001 draft proposed program and October 2001 proposed program. A final Environmental Impact Statement (EIS) prepared in accordance with section 102(2)(C) of the National Environmental Policy Act has been issued along with the proposed final program. The proposed final program has been submitted to the President and Congress as required by section 18 of the OCS Lands Act. In accordance with section 18, the Secretary of the Interior may approve the new leasing program after a period of 60 days.

DATES: The new program is scheduled to go into effect on July 1, 2002.

FOR FURTHER INFORMATION CONTACT: Proposed final program and final EIS documents and information can be obtained from the MMS internet Web page at www.mms.gov. They also can be obtained from the following MMS offices: Gulf of Mexico Region, 1201 Elmwood Park Boulevard, New Orleans, Louisiana 70123-2394, telephone (504) 736-2947 or 1-800-200-GULF; Alaska Region, University Plaza Building, Suite 300, 949 East 36th Avenue, Anchorage, Alaska 99508, telephone (907) 271-6070.

SUPPLEMENTARY INFORMATION: Questions concerning preparation of the proposed final program should be directed to: Ralph V. Ainger, Chief, Leasing Division, MS-4430, Minerals Management Service, Room 2328, 381 Elden Street, Herndon, Virginia 20170-4817, telephone (703) 787-1215. Copies of the program document and related information also can be obtained from the Leasing Division.

Questions concerning preparation of the final EIS should be directed to: Richard Wildermann, Chief, Environmental Assessment Branch, MS-4320, Minerals Management Service, 381 Elden Street, Herndon, Virginia 20170-4817, telephone (703) 787-1674. Copies of the EIS and related information also can be obtained from the Environmental Assessment Branch.

Dated: April 5, 2002.
R.M. “Johnnie” Burton,
Director, Minerals Management Service.

[FR Doc. 02-9660 Filed 4-18-02; 8:45 am]

BILLING CODE 4310-MR-P